DEPARTMENT OF HOUSING AND URBAN DEVELOPMENT

[Docket No. FR-5100-FA-20]

Announcement of Funding Awards for Healthy Homes and Lead Hazard Control Grant Programs for Fiscal Year 2007

AGENCY: Office of the Secretary, Office of Healthy Homes and Lead Hazard Control.

ACTION: Announcement of awards funded.

SUMMARY: In accordance with Section 102(a)(4)(C) of the Department of Housing and Urban Development Reform Act of 1989, this announcement notifies the public of funding decisions made by the Department in competitions for funding under the Office of Healthy Homes and Lead Hazard Control Grant Program Notices of Funding Availability (NOFA). This announcement contains the name and address of the award recipients and the amounts awarded.

FOR FURTHER INFORMATION CONTACT: Jonnette G. Hawkins, Department of Housing and Urban Development, Office of Healthy Homes and Lead Hazard Control, Room 8236, 451 Seventh Street, SW., Washington, DC 20410, telephone (202) 402-7593. Hearing- and speech-impaired persons may access the number above via TTY by calling the toll free Federal Information Relay Service at 1-800-877-8339.

SUPPLEMENTARY INFORMATION: The 2007 awards were announced September 13, 2007. These awards were the result of competitions announced in a Federal Register notice published on March 13, 2007 (72 FR 11539). The purpose of the competitions was to award funding for grants and cooperative agreements for the Office of Healthy Homes and Lead Hazard Control Grant Programs. Applications were scored and selected on the basis of selection criteria contained in these Notices.

A total of $156,990,259 was awarded. In accordance with Section 102(a)(4)(C) of the Department of Housing and Urban Development Reform Act of 1989 (103 Stat. 1987, 42 U.S.C. 3545), the Department is publishing the names, addresses, and the amount of these awards as follows:

A total of $86,640,622 was awarded to 34 grantees for the Lead Based Paint and Hazard Control Program: City of Tucson, 310 N. Commerce Park Loop, Tucson, AZ 85745, $3,000,000; City of Concord, 1950 Park Side Drive, Concord, CA 94521, $1,389,228; City of Bridgeport, 999 Broad Street, Bridgeport, CT 06604, $3,000,000; State of Delaware, 417 Federal Street, Dover, DE 19901, $2,996,866; City of Davenport, 226 West Fourth Street, Davenport, IA 52801, $2,273,039; City of Waterloo, 620 Mulberry Street, Waterloo, IA 50703, $1,510,597; City of Chicago, 333 S. State Street, Room 200, Chicago, IL 60604, $3,000,000; City of Kankakee, 199 S. East Avenue, Suite #1, Kankakee, IL 60901, $3,000,000; State of Illinois, 525 West Jefferson Street, Springfield, IL 62761, $3,000,000; City of Lawrence, 200 Common Street, Lawrence, MA 01840, $3,000,000; City of Worcester, 44 Front Street, Worcester, MA 01608, $2,926,802; City of Portland, 389 Congress Street, Portland, ME 04101, $1,525,172; City of Muskegon, 933 Terrace, Muskegon, MI 49440, $2,079,492; Hennepin County, 417 North 5th Street, Suite 320, Minneapolis, MN 55401, $3,000,000; State of Minnesota, 625 Robert St. N., St. Paul, MN 55103-2441; $1,413,100; City of Greensboro, 300 West Washington Street, Room 315, P.O. Box 3136, Greensboro, NC 27402-3136, $3,000,000; City of Rocky Mountain, 331 S. Franklin Street, Rocky Mountain, NC 27802-1180, $2,765,585; City of Nashua, 229 Main Street, P.O. Box 2019, Nashua, NH 03061-2019, $3,000,000; City of New York, 100 Gold Street, New York, NY 10038, $3,000,000; City of Syracuse, 201 East Washington Street, Syracuse, NY 13202, $3,000,000; City of Cincinnati, 801 Plum Street, Cincinnati, OH 45219, $3,000,000; City of Newark, 40 West Main Street, Suite 407, Newark, OH 43055, $1,500,000; City of Springfield, 76 East High Street, Springfield, OH 45502, $3,000,000; Cuyahoga County, 5550 Venture Drive, Parma, OH 44130, $3,000,000; Mahoning County, 21 West Boardman Street, Youngstown, OH 44503; $3,000,000; City of Erie, 626 State Street, Erie, PA 17101, $3,000,000; City of Harrisburg, 10 North 2nd Street, Suite 206, Harrisburg, PA, 17101, $2,154,490; City of Burlington, 149 Church Street, City Hall, Burlington, VT 05401, $2,865,629; Vermont Housing & Conservation Board, 149 State Street, Montpelier, VT 05602, $3,000,000; City of Rochester, 30 Church Street, Rochester, NY 14614, $1,606,710; City of Dubuque, 1805 Central Avenue, Dubuque, IA 52001-3656, $2,982,769; Sheboygan County, 828 Center Avenue, Sheboygan, WI 53081, $1,880,441; City of Cambridge, 795 Massachusetts Avenue, Cambridge, MA 02139, $770,702; City of Houston, 8000 North Stadium Drive, 2nd Floor, Houston, TX 77054, $3,000,000.

A total of $58,675,147 was awarded to 18 grantees for the Lead Hazard Reduction Demonstration Program: Will County, 302 N. Chicago Street, Joilet, IL 60432, $1,500,000; Health and Hospital Corporation of Marion County, 3838 North Rural Street, Indianapolis, IN 46205, $2,920,290; City of Baltimore, 210 Guilford Avenue, 3rd Floor, Baltimore, MD 21202, $3,897,034; Charter County of Wayne, 33030 Van Born Road, Wayne, MI 48184, $3,000,000; Hennepin County, 417 N. 5th Street, Suite 320, Minneapolis, MN, 55401, $4,000,000; Kansas City, 2400 Troost Avenue, Suite 3100, Kansas City, MO 64108, $394,770; City of Omaha, 1819 Farnam Street, Omaha, NE 68183, $2,000,000; City of Newark, 920 Broad Street, Newark, NJ 07102, $4,000,000; County of Union, Administration Building, 10 Elizabethtown Plaza, Elizabeth, NJ, 07202-3451, $3,975,202; City of New York, 100 Gold Street, New York, NY 10038, $4,000,000; City of Syracuse, 201 East Washington Street, Syracuse, NY 13202, $4,000,000; City of Columbus, 50 W. Gay Street, 3rd Floor, Columbus, OH 43215, $4,000,000; City of Toledo, One Government Center, Suite 1800, Toledo, OH 43604, $3,860,036; Cuyahoga County, 5550 Venture Drive, Parma, OH 44130, $4,000,000; City of Houston, 8000 North Stadium Drive, Houston, TX 77054, $3,000,000; City of San Antonio, 1400 South Flores, San Antonio, TX 78204, $4,000,000; County of Harris, 1001 Preston, Suite 900, Houston, TX 77002, $2,127,810. In addition, due to an incorrect calculation, a grant to the City of Birmingham, 710 North 20th Street, Room 1000, Birmingham, AL 35203 for $4,000,000 will be awarded with FY 2008 funds.

A total of $1,187,519 was awarded to 3 grantees for the Lead Outreach Grants Program: Esperanza Community Housing Corporation, 2337 S. Figueroa Street, Los Angeles, CA 90007, $400,000; Housing Counseling Services, Inc., 2410 17th Street, NW., Suite 100, Bridgeport, CT 06604, $400,000; Children's Memorial Hospital, 2300 Children's Plaza, No. 205, Chicago, IL 60614, $387,519.

A total of $3,499,997 was awarded to 8 grantees for the Lead Technical Studies Program: Silver Lake Research Corporation, 911 South Primrose Avenue, Suite N, Monrovia, CA 91016, $471,116; Alliance for Healthy Homes, P.O. Box 75941, Washington, DC 20013, $413,354; National Center for Healthy Housing, 10320 Little Patuxent Parkway, Suite 500, Columbia, MD 21044, $708,977; Saint Louis University, 211 North Grand Blvd., St. Louis, MO 63103, $530,606; Research Triangle Institute, 3040 Cornwallis Road, Research Triangle Park, NC 27709, $347,572; Battelle Memorial Institute, 505 King Avenue, Columbus, OH 43201, $457,442; University of Cincinnati, P.O. Box 210222, 51 Goodman Drive, University Hall, Suite 530, Cincinnati, OH 45221-0222, $328,020; University of Cincinnati, P.O. Box 210222, 51 Goodman Drive, University Hall, Suite 530, Cincinnati, OH 45221-0222, $242,910.

A total of $4,986,974 was awarded to 5 grantees for the Healthy Homes Demonstration Grant Program: City of San Diego, 9601 Ridgehaven Court, Suite 310, San Diego, CA 92123, $999,913; Coalition to End Childhood Lead Poisoning, 2714 Hudson Street, Baltimore, MD 21202, $1,000,000; National Center for Healthy Housing, 10320 Little Patuxent Parkway, Suite 500, Columbia, MD 21044, $999,374; American Lung Association of the Upper Midwest, 490 Concordia, CA, St. Paul, MN 55103-2441, $999,769; The Children's Mercy Hospital, 2401 Gillham Road, Kansas City, MO 64108, $987,918.

A total of $2,000,000 was awarded to 3 grantees for the Healthy Homes Technical Studies Grants Program: Boston Medical Center Corporation, One Boston Medical Center Place, Boston, MA 02118-2393, $855,655; Case Western Reserve University, 10900 Euclid Avenue, Cleveland, OH 44106, $359,197; University of Cincinnati, P.O. Box 210222, 51 Goodman Drive, University Hall, Suite 530, Cincinnati, OH 45221-0222, $785,148.

Office of Healthy Homes.

Dated: April 21, 2008.
Jon L. Gant,
Director, Office of Healthy Homes and Lead Hazard Control.

[FR Doc. E8-10004 Filed 5-6-08; 8:45 am]

BILLING CODE 4210-67-P